DEPARTMENT OF TRANSPORTATION

National Surface Transportation Infrastructure Financing Commission

AGENCY: Department of Transportation (DOT).

ACTION: Notice of meeting location and time.

SUMMARY: This notice lists the location and time of the first meeting of the National Surface Transportation Infrastructure Financing Commission.

FOR FURTHER INFORMATION CONTACT: Jack Wells, Chief Economist, U.S. Department of Transportation, 202-366-9224, jack.wells@dot.gov.

SUPPLEMENTARY INFORMATION: By Federal Register Notice dated March 12, 2007, the U.S. Department of Transportation the “Department”) issued a notice of intent to form the National Surface Transportation Infrastructure Financing Commission (the “Financing Commission”), in accordance with the requirements of the Federal Advisory Committee Act (“FACA”) (5 U.S.C. App. 2) and the Safe, Accountable, Flexible, Efficient Transportation Equity Act: A Legacy for Users (“SAFETEA-LU”) (Pub. L. 109-59, 119 Stat. 1144). Section 11142(a) of SAFETEA-LU established the National Surface Transportation Infrastructure Financing Commission and charged it to analyze future highway and transit needs and the finances of the Highway Trust Fund and to make recommendations regarding alternative approaches to financing transportation infrastructure.

Notice of Meeting Location and Time

The Department has set April 25, 2007, as the date for the inaugural Financing Commission meeting. The meeting will take place from 9:30 a.m. to 4:30 p.m. at the Oklahoma City Memorial Room (Room 2230) in the Department's headquarters building, located at 400 7th Street, SW., Washington, DC 20590.

Issued on April 6, 2007.
Jack Wells,
Chief Economist, U.S. Department of Transportation, Designated Federal Official.

[FR Doc. 07-1808 Filed 4-6-07; 3:01 pm]

BILLING CODE 4910-9X-M